DEPARTMENT OF DEFENSE

GENERAL SERVICES ADMINISTRATION

NATIONAL AERONAUTICS AND SPACE ADMINISTRATION

[OMB Control No. 9000-0024]

Federal Acquisition Regulation; Submission for OMB Review; Buy American Act—Balance of Payments Program Certificate

AGENCIES: Department of Defense (DOD), General Services Administration (GSA), and National Aeronautics and Space Administration (NASA).

ACTION: Notice of request for comments regarding an extension to an existing OMB clearance (9000-0024).

SUMMARY: Under the provisions of the Paperwork Reduction Act of 1995 (44 U.S.C. Chapter 35), the Federal Acquisition Regulation (FAR) Secretariat has submitted to the Office of Management and Budget (OMB) a request to review and approve an extension of a currently approved information collection requirement concerning Buy American Certificate. A request for public comments was published at 66 FR 37215, July 17, 2001. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before October 1, 2001.

ADDRESSES: Submit comments regarding this burden estimate or any other aspect of this collection of information, including suggestions for reducing this burden to: FAR Desk Officer, OMB, Room 10102, NEOB, Washington, DC 20503, and a copy to the General Services Administration, FAR Secretariat (MVP), 1800 F Street, NW., Room 4035, Washington, DC 20405.

FOR FURTHER INFORMATION CONTACT: Cecelia Davis, Acquisition Policy Division, GSA (202) 219-0202.

SUPPLEMENTARY INFORMATION:

A. Purpose

The Buy American Act requires that only domestic end products be acquired for public use unless specifically authorized by statute or regulation, provided that the cost of the domestic products is reasonable. The Balance of Payments Program, unless specifically exempted by statute or regulation, the Government gives preferences to the acquisition of domestic end products or services, provided that the cost of the domestic items is reasonable. The Balance of Payments Program differs from the Buy American Act in that it applies to acquisitions for use outside the United States.

The Buy American Act—Balance of Payments Program Certificate collects data for both the Buy American Act and Balance of Payments Program. At one time, there was a separate certificate to collect information on the Balance of Payments Program (9000-0023) and the Buy American Act (9000-0024). Since the last renewal, the two certificates have been combined to collect the data for both. Therefore, two separate information collections (9000-0023 and 9000-0024) are no longer needed. Information collection 9000-0023, expires on September 30, 2001, and will not be renewed. Information collection 9000-0024 collects data for both the Buy American Act and the Balance of Payments Program.

B. Annual Reporting Burden

Respondents: 3,906.

Responses Per Respondent: 15.

Total Responses: 58,590.

Hours Per Response: .167.

Total Burden Hours: 9,785.

Obtaining Copies of Proposals

Requester may obtain a copy of the proposal from the General Services Administration, FAR Secretariat (MVP), 1800 F Street, NW., Room 4035, Washington, DC 20405, telephone (202) 501-4755. Please cite OMB Control No. 9000-0024, Buy American Act—Balance of Payments Program Certificate, in all correspondence.

Dated: August 24, 2001.
Gloria Sochon,
Acting Director, Acquisition Policy Division.

[FR Doc. 01-21913 Filed 8-29-01; 8:45 am]

BILLING CODE 6820-EP-P